SMALL BUSINESS ADMINISTRATION

[Disaster Declaration #15896 and #15897; Nebraska Disaster Number NE-00073]

Presidential Declaration Amendment of a Major Disaster for the State of Nebraska

AGENCY: U.S. Small Business Administration.

ACTION: Amendment 1.

SUMMARY: This is an amendment of the Presidential declaration of a major disaster for the State of Nebraska (FEMA-4420-DR), dated 03/21/2019.

Incident: Severe Winter Storm, Straight-line Winds, and Flooding.

Incident Period: 03/09/2019 and continuing.

DATES: Issued on 03/29/2019.

Physical Loan Application Deadline Date: 05/20/2019.

Economic Injury (EIDL) Loan Application Deadline Date: 12/23/2019.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of Nebraska, dated 03/21/2019, is hereby amended to include the following areas as adversely affected by the disaster:

Primary Counties (Physical Damage and Economic Injury Loans): Boone, Buffalo, Custer, Knox, Richardson, Thurston and the Santee Sioux Nation.

Contiguous Counties (Economic Injury Loans Only):

Nebraska: Adams, Antelope, Blaine, Boyd, Cedar, Dakota, Dawson, Dixon, Garfield, Greeley, Hall, Holt, Howard, Kearney, Lincoln, Logan, Loup, Madison, Nance, Phelps, Pierce, Sherman, Valley, Wayne, Wheeler.

Iowa: Monona, Woodbury.

Kansas: Brown, Doniphan, Nemaha.

South Dakota: Bon Homme, Charles Mix, Yankton.

All other information in the original declaration remains unchanged.

(Catalog of Federal Domestic Assistance Number 59008)

James Rivera,
Associate Administrator for Disaster Assistance.

[FR Doc. 2019-06670 Filed 4-4-19; 8:45 am]

BILLING CODE 8025-01-P